DEPARTMENT OF JUSTICE

Antitrust Division

Notice Pursuant to the National Cooperative Research and Production Act of 1993—National Spectrum Consortium

Notice is hereby given that, on April 6, 2021, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, AirV Labs, Inc, Champaign, IL; Altagrove, LLC, Herndon,VA; Applied Technology, Inc., King George, VA; Artesion, Inc., Tacoma WA; Aurora Insight Inc., Denver, CO; B23 LLC, Tysons, VA; BTAS, Inc., Beavercreek, OH; Cable Television Laboratories, Inc., Louisville, CO; Capgemini Government Solutions, LLC, McLean, VA; Capstone Partners, Inc., Lancaster, PA; CNF Technologies, San Antonio, TX; Echo Ridge, LLC., Sterling, VA; Encryptor, Inc., Plano, TX; Engineering & Computer Simulations, Inc., Orlando, FL; Envistacom, LLC., Atlanta, GA; Epirus, Inc., Hawthorne, CA; Exyn Technologies, Philadelphia, PA; General Radar Corporation, Belmont, CA; IFS North America, Inc., Chicago, IL; M3 Defense Consulting, LLC, Sterling Heights, MI; Metawave Corporation, Carlsbad, CA; Mobile Frontiers, LLC., Vienna, VA; NanoVMs, Inc., San Francisco, CA; Naval Systems, Inc., Lexington Park, MD; NeuComm Solutions, LLC, Aurora, CO; NineTwelve Institute, Indianapolis, IN; Noblis Inc., Reston, VA; Northeast UAS Airspace Integration Research Alliance, Inc.(NUAIR), Syracuse, MA; Opto-Knowledge Systems, Inc., Torrance, CA; Radiall USA, Inc, Tempe, AZ; Robotic Research, LLC, Clarksburg, MD; RVJ Institute, Inc., Milford, NH; Shield AI Inc., San Diego, CA; SIEGE Technologies, Chantilly, VA; SimX, Inc., Los Altos, CA; Swim.ai, Inc., Campbell, CA; Teletronics Technology Corporation, Newtown, PA; UI Labs dba MxD USA, Chicago, IL; USCC Services, LLC, Chicago, IL; and Zin Solutions, Inc. DBA Axiom Towers, Tulsa, OK have been added as parties to this venture.

Also, GreenSight Agronomics, Inc., Boston, MA; MixComm, Inc., Chatham, NJ; NTS Technical Systems, Calabasas, CA; Ultra Communications, Inc., Vista, CA; Veritech, LLC, Glendale, AZ; MW Ventures LLC, DBA Social Mobile, Miami, FL; Paul Christoforou dba Lociva, Haymarket, VA; Rodriguez, Jonathan, La Habra, CA; James River Design & MFG LLC DBA Avcom of Virginia, North Chesterfield, VA; Garou Inc., New York, NY; CIPHIR-TM, LLC, Albany, OR; Corner Alliance, Inc., Washington, DC; Erebus Solutions Inc., Rochester, NY; IAI, LLC, Chantilly, VA; InCadence Strategic Solutions, Manassas, VA; NetApp, Inc., Sunnyvale, CA; Peregrine Technical Solutions, LLC, Yorktown, VA; University of Washington, Seattle, WA; W5 Technologies, Inc., Scottsdale, AZ; AuresTech Inc., Tewksbury, MA; Electronic Design and Development Corp (ED2), Tucson, AZ; Fenix Group, Inc., Chantilly, VA; HawkEye 360, Inc., Herndon, VA; Mavenir Systems, Inc., Richardson, TX; MegaWave Corporation, Worcester, MA; NorthWest Research Associates, Inc., Redmond, WA; Pi Radio Inc., Brooklyn, NY; QuayChain, Inc., San Pedro, CA; Sentar, Inc., Huntsville, AL; and TrustComm, Inc., Stafford, VA have withdrawn from this venture.

No other changes have been made in either the membership or planned activity of the group research project. Membership in this group research project remains open, and NSC intends to file additional written notifications disclosing all changes in membership.

On September 24, 2014, NSC filed its original notification pursuant to Section 6(a) of the Act. The Department of Justice published a notice in the Federal Register pursuant to Section 6(b) of the Act on November 4, 2014 (79 FR 65424).

The last notification was filed with the Department on January 15, 2021. A notice was published in the Federal Register pursuant to Section 6(b) of the Act on February 12, 2021 (86 FR 9376).

Suzanne Morris,
Chief, Premerger and Division Statistics, Antitrust Division.

[FR Doc. 2021-09898 Filed 5-10-21; 8:45 am]

BILLING CODE P